DEPARTMENT OF TRANSPORTATION

Federal Aviation Administration

[Policy Statement No. ANM-113-02-036]

Guidance for Certifying Headrests on Aft-Facing Seats

AGENCY: Federal Aviation Administration (FAA), DOT.

ACTION: Notice of proposed policy; request for comments.

SUMMARY: The Federal Aviation Administration (FAA) announces the availability of proposed policy that provides guidance with respect to certification of headrests on aft-facing seats

DATES: Send your comments on or before October 3, 2002.

ADDRESSES: Address your comments to the individual identified under FOR FURTHER INFORMATION CONTACT.

FOR FURTHER INFORMATION CONTACT: Ross Landes, Federal Aviation Administration, Transport Airplane Directorate, Transport Standards Staff, Standardization Branch, ANM-113, 1601 Lind Avenue SW., Renton, WA 98055-4056; telephone (425) 227-1071; fax (425) 227-1149; e-mail: ross.landes@faa.gov.

SUPPLEMENTARY INFORMATION:

Comments Invited

The proposed policy is available on the Internet at the following address: http://www.faa.gov/certification/aircraft/anminfo/devpaper.cfm. If you do not have access to the Internet, you can obtain a copy of the policy statement by contacting the person listed under FOR FURTHER INFORMATION CONTACT.

The FAA invites your comments on this proposed policy. We will accept your comments, data, views, or arguments by letter, fax, or e-mail. Send your comments to the person indicated in FOR FURTHER INFORMATION CONTACT: Mark your comments, “Comments to Policy Statement ANM-113-02-036.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The proposed policy provides guidance with respect to compliance with §§ 25.562 and 25.785(b) and (d), for headrests on aft-facing seats on transport category airplanes.

Issued in Renton, Washington, on September 5, 2002.
Ali Bahrami,
Acting Manager, Transport Airplane Directorate, Aircraft Certification Service.

[FR Doc. 02-23283 Filed 9-12-02; 8:45 am]

BILLING CODE 4910-13-M